SECURITIES AND EXCHANGE COMMISSION

17 CFR Parts 240 and 242

[Release No. 34-50056; International Series Release No. 1279; File No. S7-26-04]

RIN 3235-AJ28

Regulation B

AGENCY: Securities and Exchange Commission.

ACTION: Proposed Rule; extension of comment period.

SUMMARY: On June 17, 2004, the Securities and Exchange Commission (“Commission”) issued and requested comment on proposed Regulation B (69 FR 39682, June 30, 2004). Regulation B proposes a number of new exemptions for banks from the definition of the term “broker” under Section 3(a)(4) of the Securities Exchange Act of 1934 (“Exchange Act”), as amended by the Gramm-Leach-Bliley Act (“GLBA”). The proposal would broaden a number of exemptions already available to banks, savings associations, and savings banks that effect transactions in securities. It also would define certain terms used in the GLBA. The Commission is extending the comment period on the Regulation B until September 1, 2004. This action will allow interested persons additional time to analyze the issues and prepare their comments.

DATES: Comments should be received on or before September 1, 2004.

ADDRESSES: Comments may be submitted by any of the following methods:

Electronic Comments

• Use the Commission's Internet comment form (http://www.sec.gov/rules/proposed.shtml); or

• Send an e-mail to rule-comments@sec.gov. Please include File Number S7-26-04 on the subject line; or

• Use the Federal eRulemaking Portal (http://www.regulations.gov/). Follow the instructions for submitting comments.

Paper Comments

• Send paper comments in triplicate to Jonathan G. Katz, Secretary, Securities and Exchange Commission, 450 Fifth Street, NW., Washington, DC 20549-0609. All submissions should refer to File Number S7-26-04. This file number should be included on the subject line if e-mail is used. To help us process and review your comments more efficiently, please use only one method. The Commission will post all comments on the Commission's Internet Web site (http://www.sec.gov/rules/proposed.shtml). Comments are also available for public inspection and copying in the Commission's Public Reference Room, 450 Fifth Street, NW., Washington, DC 20549. All comments received will be posted without change; we do not edit personal identify information from submissions. You should submit only information that you wish to make available publicly.

FOR FURTHER INFORMATION CONTACT: Linda Stamp Sundberg, Attorney Fellow, or Brice Prince, Special Counsel at (202) 942-0073, Office of the Chief Counsel, Division of Market Regulation, Securities and Exchange Commission, 450 Fifth Street, NW., Washington, DC 20549-1001.

SUPPLEMENTARY INFORMATION: On June 17, 2004, the Commission requested comment on its proposed Regulation B concerning the securities activities of banks, savings associations, savings banks and credit unions.¹ Proposed Regulation B would establish a number of new exemptions for banks from the definition of the term “broker” under Section 3(a)(4) of the Exchange Act, as amended by the GLBA. The proposal would broaden a number of exemptions already available to banks, savings associations, and savings banks that effect transactions in securities. It also would define certain terms used in the GLBA.

¹ Exchange Act Release No. 49879, International Series Release No. 1278 (June 17, 2004); 69 FR 39682 (June 30, 2004).

Several trade associations that represent banks, savings associations, and savings banks have requested that the Commission extend the public comment period for the proposed Regulation B for an additional 30-day period. The trade associations have indicated that such an extension would enable them and their members to better analyze and address the substantive, operational and legal issues associated with the proposed Regulation B.

In light of these requests, the Commission is providing the public additional time until September 1, 2004 to comment on the proposed Regulation B.

Dated: July 22, 2004.
By the Commission.
Margaret H. McFarland,
Deputy Secretary.

[FR Doc. 04-17112 Filed 7-27-04; 8:45 am]

BILLING CODE 8010-01-M